DEPARTMENT OF THE TREASURY

Customs Service

[T.D. 01-19]

Revised Schedule of Navigation Fees

Correction

In notice document 01-3549 beginning on page 9893 in the issue of Monday, February 12, 2001, make the following corrections:

1. On page 9893, at the bottom of the page, in the table, line number “6.” should read “7.”.

2. On the same page, in the same table, line number “7.” should read “8.”.

[FR Doc. C1-3549 Filed 2-23-01; 8:45 am]

BILLING CODE 1505-01-D